DEPARTMENT OF EDUCATION

Applications for New Awards; Augustus F. Hawkins Centers of Excellence Program

AGENCY: Office of Postsecondary Education, Department of Education.

ACTION: Notice.

SUMMARY: The Department of Education (Department) is issuing a notice inviting applications for fiscal year (FY) 2024 for the Augustus F. Hawkins Centers of Excellence (Hawkins) Program, Assistance Listing Number (ALN) 84.428A. This notice relates to the approved information collection under OMB control number 1894-0006.

DATES:

Applications Available: April 4, 2024.

Deadline for Transmittal of Applications: June 18, 2024.

Deadline for Intergovernmental Review: August 19, 2024.

ADDRESSES: For the addresses for obtaining and submitting an application, please refer to our Common Instructions for Applicants to Department of Education Discretionary Grant Programs, published in the Federal Register on December 7, 2022 (87 FR 75045), and available at https://www.federalregister.gov/documents/2022/12/07/2022-26554/common-instructions-for-applicants-to-department-of-education-discretionary-grant-programs.

FOR FURTHER INFORMATION CONTACT: Dr. Vicki Robinson, U.S. Department of Education, 400 Maryland Avenue SW, 5th Floor, Washington, DC 20202. Telephone: (202) 453-7907. Email: Vicki.Robinson@ed.gov. You may also contact Ashley Hillary, U.S. Department of Education, 400 Maryland Avenue SW, 5th Floor, Washington, DC 20202. Telephone: (202) 453-7880. Email: Ashley.Hillary@ed.gov.

If you are deaf, hard of hearing, or have a speech disability and wish to access telecommunications relay services, please dial 7-1-1.

SUPPLEMENTARY INFORMATION:

Full Text of Announcement

I. Funding Opportunity Description

Purpose of Program: The Hawkins Program, authorized under part B of title II of the Higher Education Act of 1965, as amended (HEA), is designed to support comprehensive, high-quality State-accredited teacher preparation programs by creating centers of excellence at Historically Black Colleges and Universities (HBCUs); Tribal Colleges or Universities (TCUs); or Minority Serving Institutions (MSIs), such as Hispanic-Serving Institutions (HSIs). The Hawkins Program will help increase the number of, and retain, well-prepared teachers from diverse backgrounds, resulting in a more diverse teacher workforce prepared to teach in our Nation's most underserved elementary and secondary schools and close student opportunity and achievement gaps. This program focuses on the various aspects of the teacher preparation pipeline, including the recruitment, preparation, support, placement, retention, and retraining of teachers for and in under-resourced schools to support underserved students. Through this program, the Secretary seeks to fund applicants that propose to incorporate evidence-based practices into their teacher preparation program.

Background:

The Hawkins Program is critical in enabling the Department to meet its goal of supporting a diverse teacher workforce to improve student opportunities, achievement, and outcomes, and address the educator shortage, by providing expanded access to comprehensive, high-quality, and affordable educator preparation programs.

There is significant inequity in students' access to well-prepared, experienced, and effective teachers,¹ particularly for students from low-income backgrounds, students of color, children or students with disabilities, and English learners (ELs).² Providing all students with consistent access to well-prepared, effective, and diverse educators who provide high-quality instruction and support is essential to closing opportunity and achievement gaps. Teachers who entered the profession through the least comprehensive teacher preparation pathway are two to three times more likely to leave their school or the profession compared to those who entered through a comprehensive pathway.³ Research demonstrates that high rates of turnover harm student achievement,⁴ and that the quality of a school's leadership is among the most important predictors of teacher turnover, with more effective principals being more likely to retain their best teachers.⁵

¹ Isenberg, E., Max, J., Gleason, P., Johnson, M., Deutsch, J., and Hansen, M. (2016). Do Low-Income Students Have Equal Access to Effective Teachers? Evidence from 26 Districts (NCEE 2017-4007). Washington, DC: National Center for Education Evaluation and Regional Assistance, Institute of Education Sciences, U.S. Department of Education.

² www.ed.gov/raisethebar/Eliminating-Educator-Shortages-through-Increasing-Educator-Diversity.

³ Ingersoll, R., & May, H. (2011). Recruitment, retention and the minority teacher shortage. CPRE Research Report #RR-69. Philadelphia, PA: Consortium for Policy Research in Education, University of Pennsylvania.

⁴ Carver-Thomas, D., and Darling-Hammond, L. (2017). Teacher Turnover: Why It Matters and What We Can Do About It, Learning Policy Institute, https://learningpolicyinstitute.org/product/teacher-turnover-report.

⁵ Grissom, J. (2018). Strong principals retain effective teachers—and don't retain ineffective ones, The Brookings Institution, https://www.brookings.edu/articles/strong-principals-retain-effective-teachers-and-dont-retain-ineffective-ones/.

Extensive, high-quality, and evidence-based clinical experience is one of three “aspects of preparation that have the highest potential for effects on outcomes for students.” ⁶ There are several ways educator preparation programs can partner with school districts and schools to provide these kinds of clinical experiences. For example, a number of school districts are partnering with teacher preparation programs to provide clinical experiences that are mutually beneficial for teacher candidates and teachers of record, and their students. Teacher candidates, in addition to completing the required elements of an evidence-based clinical experience, may serve in schools in roles that support students and teachers as their academic schedules allow and as they complete their other requirements for teacher certification. Teacher residencies and Grow Your Own ⁷ programs, which may be supported through registered teacher apprenticeship programs, can support teacher candidates serving in these roles and cover the costs associated with extensive clinical experience. Other examples of educator preparation programs supporting high need schools in this way can be found here: www.ed.gov/coronavirus/factsheets/teacher-shortage.

⁶ National Research Council. (2010). Preparing teachers: Building evidence for sound policy. Report by the Committee on the study of teacher preparation programs in the United States. Washington, DC: National Academies Press.

⁷ Motamedi, J., Leong, M., and Yoon, S. (2017). Strategies for Designing, Implementing, and Evaluating Grow-Your-Own Teacher Programs for Educators, REL Northwest, https://ies.ed.gov/ncee/edlabs/regions/northwest/pdf/strategies-for-educators.pdf.

While the majority of U.S public school students are children of color,⁸ only 20 percent of teachers are people of color. Further, 40 percent of the Nation's public schools do not employ a single teacher of color on record.⁹ Research shows that teachers of color benefit all students and can have a significant positive impact on students of color.¹⁰ These benefits can include higher levels of achievement,¹¹ greater encouragement, increased students' aspirations (e.g., through role modeling), more recommendations from teachers (e.g., to gifted and talented programs), and increased access to rigorous course-taking.¹² Research also demonstrates that teachers of color can be positive role models for all students in breaking down negative stereotypes and preparing students to live and work in a multiracial society.¹³ A more diverse teacher workforce also increases the likelihood that students of color will have access to culturally and linguistically relevant teaching and learning and positive relationships.¹⁴ Thus, supporting teachers of color can be a critical strategy for advancing educational equity for students of color and addressing one of the root causes of institutional barriers to equity in the academic environment.¹⁵

⁸ https://nces.ed.gov/programs/coe/indicator/cge/racial-ethnic-enrollment.

⁹ Education Trust (2022). Educators of Color Make the Case for Teacher Diversity. https://edtrust.org/wp-content/uploads/2014/09/Educators-of-Color-Make-the-Case-for-Teacher-Diversity-November-2022.pdf.

¹⁰ Dee, T. (2004). Teachers, race and student achievement in a randomized experiment. The Review of Economics and Statistics, 86(1), 195-210; and Gershenson, S., Hart, C.M.D., Lindsay, C.A., & Papageorge, N.W. (2017). The long-run impacts of same race teachers. Bonn, Germany: IZA Institute of Labor Economics. Discussion Paper Series.

¹¹ Egalite, A., Kisida, B., & Winters, M.A. Representation in the classroom: The effect of own-race teachers on student achievement, Economics of Education Review, 45 (April 2015), 44-52.

¹² Grissom, J., Kabourek, S., & Kramer, J. Exposure to same-race or same-ethnicity teachers and advanced math course-taking in high school: Evidence from a diverse urban district, Teachers College Record, 122 (2020), 1-42.

¹³ www2.ed.gov/rschstat/eval/highered/racial-diversity/state-racial-diversity-workforce.pdf.

¹⁴ Blazar, D. (2021). Teachers of Color, Culturally Responsive Teaching, and Student Outcomes: Experimental Evidence from the Random Assignment of Teachers to Classes. (EdWorkingPaper: 21-501). Retrieved from Annenberg Institute at Brown University: https://doi.org/10.26300/jym0-wz02.

¹⁵ www2.ed.gov/rschstat/eval/highered/racial-diversity/state-racial-diversity-workforce.pdf.

In addition to the need for more teachers of color, a parallel challenge in the Nation's public schools lies in the shortage of multilingual teachers prepared to teach a growing population of English Learners (ELs). ELs are the fastest growing student demographic, with more than 10 percent of students identified as ELs currently.¹⁶ Additionally, about one-quarter of all students speak a language other than English at home, whereas only 1 in 8 teachers do.¹⁷ Despite that, more than half of the States nationwide are experiencing bilingual and multilingual teacher shortages and a quarter of the States do not require certification or endorsements for teachers who teach ELs.¹⁸

¹⁶ https://nces.ed.gov/programs/digest/d20/tables/dt20_204.20.asp.

¹⁷ https://datacenter.kidscount.org/data/tables/81-children-who-speak-a-language-other-than-english-at-home?loc=1&loct=1#detailed/1/any/false/1729,37,871,870,573,869,36,868,867,133/any/396,397.

¹⁸ Torre Gibney, D., Kelly, H., Rutherford-Quach, S., Ballen Riccards, J. & Parker, C. (2021). Addressing the bilingual teacher shortage. CCNetwork.

Research demonstrates that ELs who are taught in bilingual settings, such as dual-language immersion programs, by well-prepared bilingual teachers have stronger academic outcomes and better English-language acquisition trajectories than ELs who are taught in English only settings, which underscores the need to close the multilingual teacher shortage gap.¹⁹ Additionally, ELs who learn in bilingual settings in which they can maintain their native languages while learning English have stronger social and emotional development, cross-cultural skills, and problem-solving skills.²⁰ Bilingual and multilingual learning environments can also mitigate linguistic barriers that limit family engagement, as bilingual and multilingual teachers are more likely to communicate with linguistically diverse families and ensure they have equitable access to information about their students' education.²¹ Bilingual and multilingual teachers' assets are critical to creating inclusive school and family partnerships where linguistically diverse families can meaningfully participate in their child's education.²²

¹⁹ Steele, J., Slater, R., Zamarro, G., Miller, T., Li, J., Burkhauser, S., Bacon, M. (2017). Effects of Dual-Language Immersion Programs on Student Achievement: Evidence From Lottery Data, American Educational Research Journal, 54, no. 1S,: 282S-306S, https://journals.sagepub.com/doi/abs/10.3102/0002831216634463.

²⁰ Williams, C., Soto-Boykin, X., Zabala, J., & Meek, S. (2023). Why We Need To Cultivate America's Multilingual, Multicultural Assets. The Century Foundation. https://tcf.org/content/report/why-we-need-to-cultivate-americas-multilingual-multicultural-assets/#easy-footnote-bottom-9.

²¹ Hopkins, M., & Schutz, K.M. (2019). Bilingual teacher leadership: Supporting linguistically responsive practices and parent engagement in schools. NABE Journal of Research and Practice, 9(2), 96-109.

²² Newcomer, S.N., & Puzio, K. (2016). “Cultivando confianza”: A bilingual community of practice negotiates restrictive language policies. International Journal of Bilingual Education and Bilingualism, 19(4), 347-369.

Through the priorities in this competition, the Department seeks to encourage HBCUs, TCUs, and MSIs to propose projects that are designed to increase and retain the number of well-prepared teachers from diverse backgrounds; increase evidence-based, comprehensive pre-service clinical experiences through teacher preparation programs; and increase the number of bilingual and/or multilingual teachers with full certification.

Priorities: This notice contains two absolute priorities and two competitive preference priorities. The absolute priorities and Competitive Preference Priority 1 are from the Notice of Final Priorities, Requirements, and Definitions for this program published elsewhere in this issue of the Federal Register (2024 NFP), and Competitive Preference Priority 2 is from the Secretary's Final Administrative Priorities for Discretionary Grant Programs published in the Federal Register on March 9, 2020 (85 FR 13640) (Administrative Priorities).

Absolute Priorities: For the FY 2024 grant competition and any subsequent year in which we make awards from the list of unfunded applications from this competition, these priorities are absolute priorities. Under 34 CFR 75.105(c)(3), we consider only applications that meet both priorities.

These priorities are:

Absolute Priority 1: Projects that are Designed to Increase and Retain the Number of Well-Prepared Teachers from Diverse Backgrounds.

To meet this priority, an eligible applicant must propose projects that are designed to increase the number of well-prepared teachers and the diversity of the teacher workforce with a focus on increasing and retaining a diverse teacher workforce, and improving the preparation, recruitment, retention, and placement of such teachers.

Applicants addressing this priority must describe—

(a) How their project will integrate multiple services or initiatives across academic and student affairs, such as academic advising, counseling, stipends, child-care, structured/guided pathways from teacher candidates' first year in the preparation program through successful employment placement, career services, or student financial aid, such as scholarships, with the goal of increasing program completion and credential attainment;

(b) Their plan for identifying and supporting teacher candidates from backgrounds that are underrepresented in the profession, including teacher candidates of color. This plan must span the beginning of the preparation program through graduation, and include a plan to improve program entry rates, as applicable, graduation rates, passage rates for certification and licensure exams, and rates of successful employment placement between teacher candidate subgroups and an institution's overall teacher candidate population; and

(c) Their proposed initiatives to promote the retention of teachers from backgrounds that are underrepresented in the profession, including teachers of color, prepared through the program, which may include induction programs, such as teacher or school leader induction programs, or mentorship programs that provide school and district leaders with the support they need to persist in their professions.

Absolute Priority 2: Increase Evidence-Based, Comprehensive Pre-service Clinical Experiences Through Teacher Preparation Programs.

To meet this priority, an eligible applicant must propose projects that are evidence-based (as defined in 34 CFR 77.1) comprehensive teacher preparation programs that provide extensive clinical experience. Applicants with existing programs must describe their record in graduating highly skilled, well-prepared, and diverse teachers and describe how the proposed project will refine or enhance existing programs. Applicants proposing new programs must describe how their new program is evidence-based and designed to achieve the intended outcomes of the Hawkins Program. Applicants must also address how they will—

(a) Examine the sources of inequity and inadequacy in resources and opportunity and implement pedagogical practices in teacher preparation programs that are inclusive with regard to race, ethnicity, culture, language, gender, and disability status and that prepare teachers to create inclusive, supportive, equitable, unbiased, and identity-safe learning environments for their students;

(b) Prepare teacher candidates to integrate rigorous academic content, including through the effective use of technology, and instructional techniques and strategies consistent with universal design for learning principles;

(c) Prepare teacher candidates to design and deliver instruction in ways that are engaging and provide their students with opportunities to think critically and solve complex problems, apply learning in authentic and real-world settings, communicate and collaborate effectively, and develop growth mindsets. Teacher candidate pedagogy should include how to incorporate project-based, work-based, or other experiential learning opportunities in curriculum development;

(d) Prepare teacher candidates to build meaningful and trusting relationships with students and their families to support in-home, community-based, and in-school learning; and

(e) Provide sustained and high-quality pre-service clinical experiences, including teaching assistant initiatives, that facilitate the pathway to the teaching credential for those with paraprofessional experience or high-quality school leader pre-service training, induction, and support in the first three years of school leadership for principals and other school leaders. In designing such experiences, applicants must consider opportunities to provide pre-service clinical experience earlier in the teacher preparation program, as is practicable, and in ways that benefit students and teachers. These clinical experiences must be designed to—

(1) Integrate pedagogy and classroom practice and promote effective teaching skills in academic content areas;

(2) Be tightly aligned with course work with clear, relevant, and strong links between theory and practice;

(3) Group teacher candidates in cohorts to facilitate reflection of practice and professional collaboration;

(4) Closely supervise interaction between teacher candidates and faculty, experienced teachers, principals, and other administrators in high-need schools or hard-to-staff schools; and

(5) Provide high-quality-teacher mentoring.

Competitive Preference Priorities: For the FY 2024 grant competition and any subsequent year in which we make awards from the list of unfunded applications from this competition, these priorities are competitive preference priorities. Under 34 CFR 75.105 (c)(2)(i), we award up to an additional 5 points to an application, depending on how well the application meets Competitive Preference Priority 1; and we award an additional 5 points to an application that meets Competitive Preference Priority 2.

These priorities are:

Competitive Preference Priority 1: Increasing the Number of Bilingual and/or Multilingual Teachers with Full Certification. (up to 5 points)

To meet this priority, an eligible applicant must propose projects that are designed to prepare effective and experienced bilingual and/or multilingual teachers for high-need schools by increasing the number of teachers across elementary and secondary schools who are fully certified to provide academic language instruction in a language other than English, including for English Learners (ELs). These projects must prepare teacher candidates to lead students toward linguistic fluency and academic achievement in more than one language. Applicants must describe—

(a) How their project will integrate multiple services or initiatives across academic and student affairs, such as academic advising, counseling, stipends, child-care, structured/guided pathways from teacher candidates' first year in the preparation program through successful employment placement, career services, or student financial aid, such as scholarships, and provide the necessary knowledge and skills so that teacher candidates can serve students from many different language backgrounds; and

(b) Their plan for recruiting, supporting, and retaining bilingual and/or multilingual teacher candidates, including those who may have a teaching credential but have not been teaching in bilingual and/or multilingual education settings; aspiring teachers; and teaching assistants who are interested in becoming bilingual and/or multilingual teachers.

Competitive Preference Priority 2: Applications From New Potential Grantees (5 points)

(a) To meet this priority, an applicant must demonstrate that it does not, as of the deadline date for submission of applications, have an active grant, including through membership in a group application submitted in accordance with 34 CFR 75.127-75.129, under the Hawkins Program.

(b) For the purpose of this priority, a grant or contract is active until the end of the grant's or contract's project or funding period, including any extensions of those periods that extend the grantee's or contractor's authority to obligate funds.

Definitions: The definitions below apply to this competition and are from 34 CFR part 77.1, 20 U.S.C. 1033, and the 2024 NFP.

Demonstrates a rationale means a key project component included in the project's logic model is informed by research or evaluation findings that suggest the project component is likely to improve relevant outcomes.

Experimental study means a study that is designed to compare outcomes between two groups of individuals (such as students) that are otherwise equivalent except for their assignment to either a treatment group receiving a project component or a control group that does not. Randomized controlled trials, regression discontinuity design studies, and single-case design studies are the specific types of experimental studies that, depending on their design and implementation (e.g., sample attrition in randomized controlled trials and regression discontinuity design studies), can meet What Works Clearinghouse (WWC) standards without reservations as described in the WWC Handbooks:

(1) A randomized controlled trial employs random assignment of, for example, students, teachers, classrooms, or schools to receive the project component being evaluated (the treatment group) or not to receive the project component (the control group).

(2) A regression discontinuity design study assigns the project component being evaluated using a measured variable (e.g., assigning students reading below a cutoff score to tutoring or developmental education classes) and controls for that variable in the analysis of outcomes.

(3) A single-case design study uses observations of a single case (e.g., a student eligible for a behavioral intervention) over time in the absence and presence of a controlled treatment manipulation to determine whether the outcome is systematically related to the treatment.

Logic model (also referred to as a theory of action) means a framework that identifies key project components of the proposed project (i.e., the active “ingredients” that are hypothesized to be critical to achieving the relevant outcomes) and describes the theoretical and operational relationships among the key project components and relevant outcomes.

Note: In developing logic models, applicants may want to use resources such as the Regional Educational Laboratory Program's (REL Pacific) Education Logic Model Application, available at https://ies.ed.gov/ncee/edlabs/regions/pacific/elm.asp. Other sources include: https://ies.ed.gov/ncee/edlabs/regions/pacific/pdf/REL_2014025.pdf, https://ies.ed.gov/ncee/edlabs/regions/pacific/pdf/REL_2014007.pdf, and https://ies.ed.gov/ncee/edlabs/regions/northeast/pdf/REL_2015057.pdf.

Pre-service means the period of training for a person who does not have a prior teaching certification or license and who is enrolled in a State-approved teacher education program at an institution of higher education, prior to becoming the teacher of record.

Project component means an activity, strategy, intervention, process, product, practice, or policy included in a project. Evidence may pertain to an individual project component or to a combination of project components (e.g., training teachers on instructional practices for English learners and follow-on coaching for these teachers).

Promising evidence means that there is evidence of the effectiveness of a key project component in improving a relevant outcome, based on a relevant finding from one of the following:

(1) A practice guide prepared by WWC reporting a “strong evidence base” or “moderate evidence base” for the corresponding practice guide recommendation;

(2) An intervention report prepared by the WWC reporting a “positive effect” or “potentially positive effect” on a relevant outcome with no reporting of a “negative effect” or “potentially negative effect” on a relevant outcome; or

(3) A single study assessed by the Department, as appropriate, that—

(i) Is an experimental study, a quasi-experimental design study, or a well-designed and well-implemented correlational study with statistical controls for selection bias (e.g., a study using regression methods to account for differences between a treatment group and a comparison group); and

(ii) Includes at least one statistically significant and positive (i.e., favorable) effect on a relevant outcome.

Quasi-experimental design study means a study using a design that attempts to approximate an experimental study by identifying a comparison group that is similar to the treatment group in important respects. This type of study, depending on design and implementation (e.g., establishment of baseline equivalence of the groups being compared), can meet WWC standards with reservations, but cannot meet WWC standards without reservations, as described in the WWC Handbooks.

Relevant outcome means the student outcome(s) or other outcome(s) the key project component is designed to improve, consistent with the specific goals of the program.

Scientifically based reading research—

(1) Means research that applies rigorous, systemic, and objective procedures to obtain valid knowledge relevant to reading development, reading instruction, and reading difficulties; and

(2) Includes research that-

(i) Employs systemic, empirical methods that draw on observation or experiment;

(ii) Involves rigorous data analyses that are adequate to test the stated hypotheses and justify the general conclusions drawn;

(iii) Relies on measurements or observational methods that provide valid data across evaluators and observers and across multiple measurements and observations; and

(iv) Has been accepted by a peer-reviewed journal or approved by a panel of independent experts through a comparably rigorous, objective, and scientific review.

What Works Clearinghouse (WWC) Handbooks (WWC Handbooks) means the standards and procedures set forth in The WWC Standards Handbook, Versions 4.0 or 4.1, and WWC Procedures Handbook, Versions 4.0 or 4.1, or in the WWC Procedures and Standards Handbook, Version 3.0 or Version 2.1 (all incorporated by reference, see § 77.2). Study findings eligible for review under WWC standards can meet WWC standards without reservations, meet WWC standards with Reservations, or not meet WWC standards. WWC practice guides and intervention reports include findings from systematic reviews of evidence as described in the WWC Handbooks documentation.

Note: The WWC Procedures and Standards Handbook (Version 4.1), as well as the more recent WWC Handbook released in August 2022 (Version 5.0), are available at https://ies.ed.gov/ncee/wwc/Handbooks.

Application Requirements: The following application requirements for FY 2024 are from section 242(b) of the HEA (20 U.S.C. 1033a(b)).

Grants provided by the Secretary must be used to ensure that current and future teachers meet the applicable State certification and licensure requirements, including any requirements for certification obtained through alternative routes to certification, or, with regard to special education teachers, the qualifications described in section 612(a)(14)(C) of the Individuals with Disabilities Education Act (IDEA), by carrying out one or more of the following activities:

(1) Implementing reforms within teacher preparation programs to ensure that such programs are preparing teachers who meet the applicable State certification and licensure requirements, including any requirements for certification obtained through alternative routes to certification, or, with regard to special education teachers, the qualifications described in section 612(a)(14)(C) of the IDEA, are able to understand scientifically valid research, and are able to use advanced technology effectively in the classroom, including use of instructional techniques to improve student academic achievement, by—

(i) Retraining or recruiting faculty; and

(ii) Designing (or redesigning) teacher preparation programs that—

(A) Prepare teachers to serve in low-performing schools and close student achievement gaps, and that are based on rigorous academic content, scientifically valid research (including scientifically based reading research and mathematics research, as it becomes available), and challenging State academic content standards and student academic achievement standards; and

(B) Promote strong teaching skills.

(2) Providing sustained and high-quality preservice clinical experience, including the mentoring of prospective teachers by exemplary teachers, substantially increasing interaction between faculty at IHEs and new and experienced teachers, principals, and other administrators at elementary schools or secondary schools, and providing support, including preparation time, for such interaction.

(3) Developing and implementing initiatives to promote retention of teachers who meet the applicable State certification and licensure requirements, including any requirements for certification obtained through alternative routes to certification, or, with regard to special education teachers, the qualifications described in section 612(a)(14)(C) of the IDEA, and highly qualified principals, including minority teachers and principals, including programs that provide—

(i) Teacher or principal mentoring from exemplary teachers or principals, respectively; or

(ii) Induction and support for teachers and principals during their first 3 years of employment as teachers or principals, respectively.

(4) Awarding scholarships based on financial need to help students pay the costs of tuition, room, board, and other expenses of completing a teacher preparation program, not to exceed the cost of attendance.

(5) Disseminating information on effective practices for teacher preparation and successful teacher certification and licensure assessment preparation strategies.

(6) Activities authorized under section 202 of the HEA (20 U.S.C. 1022a).

Program Authority: 20 U.S.C. 1033-1033a.

Note: Projects will be awarded and must be operated in a manner consistent with the nondiscrimination requirements contained in Federal civil rights laws.

Applicable Regulations: (a) The Education Department General Administrative Regulations in 34 CFR parts 75, 77, 79, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The 2024 NFP. (e) The Administrative Priorities.

Note: The regulations in 34 CFR part 86 apply to institutions of higher education only.

II. Award Information

Type of Award: Discretionary grant.

Estimated Available Funds: $15,000,000.

Contingent upon the availability of funds and the quality of applications, we may make additional awards in subsequent years from the list of unfunded applications from this competition.

Estimated Range of Awards: $450,000 to $650,000.

Estimated Average Size of Awards: $550,000.

Estimated Number of Awards: Up to 27.

Note: The Department is not bound by any estimates in this notice.

Project Period: Up to 60 months.

III. Eligibility Information

1. Eligible Applicants: Eligible institutions (as articulated under section 241(1) of the HEA) under the Hawkins Program include—

(i) An IHE that has a qualified teacher preparation program that is—

(A) A part B institution (as defined in section 322 of the HEA);

(B) A Hispanic-serving institution (as defined in section 502 of the HEA);

(C) A Tribal College or University (as defined in section 316 of the HEA);

(D) An Alaska Native-serving institution (as defined in section 317(b) of the HEA);

(E) A Native Hawaiian-serving institution (as defined in section 317(b) of the HEA);

(F) A Predominantly Black Institution (as defined in section 318 of the HEA);

(G) An Asian American and Native American Pacific Islander-serving institution (as defined in section 320(b) of the HEA); or

(H) A Native American-serving, nontribal institution (as defined in section 319 of the HEA);

(ii) A consortium of institutions described in paragraph (i); or

(iii) An institution described in paragraph (i), or a consortium described in paragraph (ii), in partnership with any other IHE, but only if the center of excellence established is located at an institution described in paragraph (i).

Note: A consortium of institutions under this competition must follow the procedures under 34 CFR 75.127-75.129 in developing a group application. This includes developing an agreement that details the activities that each member of the group plans to perform and binds each member of the group to every statement and assurance made by the applicant in the application. This agreement must be submitted with the application.

2. a. Cost Sharing or Matching: This competition does not require cost sharing or matching.

b. Supplement-Not-Supplant: Grant funds must be used so that they supplement and, to the extent practical, increase the funds that would otherwise be available for the activities to be carried out under this grant. (2024 NFP)

c. Indirect Cost Rate Information: A grantee's indirect cost reimbursement is limited to 8 percent of a modified total direct cost base. For more information regarding indirect costs, or to obtain a negotiated indirect cost rate, please see www.ed.gov/about/offices/list/ocfo/intro.html. (2024 NFP)

d. Administrative Cost Limitation: In accordance with section 242(e) of the HEA, an eligible institution that receives a grant under this program may use not more than 2 percent of the funds provided to administer the grant. All administrative expenses must be reasonable and necessary and conform to Cost Principles described in 2 CFR part 200 subpart E of the Uniform Guidance.

3. Subgrantees: A grantee under this competition may not award subgrants to entities to directly carry out project activities described in its application.

4. Draft Written Agreement with Clinical Practice Partner(s): An applicant must provide a Draft Written Agreement (DWA) that identifies the partnership between: (1) at least one eligible IHE with a State accredited teacher preparation program, and (2) a high-need local educational agency (LEA) or consortium of high-need LEAs, or with a high-need school or consortium of high-need schools. The agreement with partners is intended to ensure that the parties joining the project are committed to fulfilling the purpose of the clinical practice by either creating new partnerships or expanding existing partnerships, and that teacher candidates will not become the teacher of record prior to completing the certification program, including pre-service clinical experience, and, for any candidates who entered the program without a bachelor's degree, obtaining a bachelor's. Grantees will finalize the DWA into a Final Written Agreement (FWA) within 120 days of grant award notification. (2024 NFP)

IV. Application and Submission Information

1. Application Submission Instructions: Applicants are required to follow the Common Instructions for Applicants to Department of Education Discretionary Grant Programs, published in the Federal Register on December 7, 2022 (87 FR 75045), and available at www.federalregister.gov/d/2022-26554, which contain requirements and information on how to submit an application. Please note that these Common Instructions supersede the version published on December 27, 2021.

2. Intergovernmental Review: This program is subject to Executive Order 12372 and the regulations in 34 CFR part 79. Information about Intergovernmental Review of Federal Programs under Executive Order 12372 is in the application package for this program.

3. Funding Restrictions: We reference regulations outlining funding restrictions in the Applicable Regulations section of this notice.

4. Recommended Page Limit: The application narrative is where you, the applicant, address the selection criteria that reviewers use to evaluate your application. We recommend that you (1) limit the application narrative to no more than 50 pages and (2) use the following standards:

• A “page” is 8.5″ x 11″, on one side only, with 1″ margins at the top, bottom, and both sides.

• Double space (no more than three lines per vertical inch) all text in the application narrative, except titles, headings, footnotes, quotations, references, and captions.

• Use a font that is either 12 point or larger or no smaller than 10 pitch (characters per inch).

• Use one of the following fonts: Times New Roman, Courier, Courier New, or Arial.

The recommended page limit does not apply to the cover sheet; the budget section, including the narrative budget justification; the assurances and certifications; or the one-page abstract. However, the recommended page limit does apply to all the application narrative.

V. Application Review Information

1. Selection Criteria: The selection criteria for this competition are from 34 CFR 75.210. The points assigned to each criterion are indicated in the parentheses next to the criterion. An applicant may earn up to a total of 100 points based on the selection criteria and up to 10 additional points under the competitive preference priorities, for a total score of up to 110 points. All applications will be evaluated based on the selection criteria as follows:

(a) Quality of the Project Design. (Maximum 50 points)

The Secretary considers the quality of the design of the proposed project. In determining the quality of the design of the proposed project, the Secretary considers the following factors:

(1) The extent to which the proposed project is part of a comprehensive effort to improve teaching and learning and support rigorous academic standards for students. (up to 10 points)

(2) The extent to which the design of the proposed project reflects up-to-date knowledge from research and effective practice. (up to 5 points)

(3) The extent to which the goals, objectives, and outcomes to be achieved by the proposed project are clearly specified and measurable. (up to 5 points)

(4) The extent to which the design of the proposed project is appropriate to, and will successfully address, the needs of the target population or other identified needs. (up to 10 points)

(5) The extent to which the proposed project demonstrates a rationale (as defined in this notice). (up to 10 points)

(6) The extent to which the design for implementing and evaluating the proposed project will result in information to guide possible replication of project activities or strategies, including information about the effectiveness of the approach or strategies employed by the project. (up to 10 points)

(b) Significance. (Maximum 20 points)

The Secretary considers the significance of the proposed project. In determining the significance of the proposed project, the Secretary considers the following factors:

(1) The likelihood that the proposed project will result in system change or improvement. (up to 10 points)

(2) The extent to which the results of the proposed project are to be disseminated in ways that will enable others to use the information or strategies. (up to 10 points)

(c) Quality of the Project Services. (Maximum 15 points)

The Secretary considers the quality of the services to be provided by the proposed project. In determining the quality of the services to be provided by the proposed project:

(1) The Secretary considers the quality and sufficiency of strategies for ensuring equal access and treatment for eligible project participants who are members of groups that have traditionally been underrepresented based on race, color, national origin, gender, age, or disability. (up to 5 points)

(2) In addition, the Secretary considers the following factors:

(i) The likely impact of the services to be provided by the proposed project on the intended recipients of those services. (up to 5 points)

(ii) The extent to which the services to be provided by the proposed project involve the collaboration of appropriate partners for maximizing the effectiveness of project services. (up to 5 points)

(d) Quality of the Management Plan. (Maximum 5 points)

The Secretary considers the quality of the management plan for the proposed project. In determining the quality of the management plan for the proposed project, the Secretary considers the adequacy of the management plan to achieve the objectives of the proposed project on time and within budget, including clearly defined responsibilities, timelines, and milestones for accomplishing project tasks.

(e) Quality of the Project Evaluation. (Maximum 10 points)

The Secretary considers the quality of the evaluation to be conducted of the proposed project. In determining the quality of the evaluation, the Secretary considers the following factors:

(1) The extent to which the evaluation will provide guidance about effective strategies suitable for replication or testing in other settings. (up to 3 points)

(2) The extent to which the methods of evaluation will provide performance feedback and permit periodic assessment of progress toward achieving intended outcomes. (up to 3 points)

(3) The extent to which the methods of evaluation will, if well implemented, produce promising evidence (as defined in this notice) about the project's effectiveness. (up to 4 points)

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

The Secretary will select applications for funding in rank order, according to the average score received from the peer review and from the competitive preference priorities addressed by the applicant. If the Secretary has insufficient funding to award multiple applications with the same score, consistent with section 873(d)(2)(A) and (B) of the HEA, in making a selection, the first tiebreaker will be to prioritize applicants from categories of eligible institutions that have been underfunded in this program. If a tie still exists after applying the first tiebreaker, the Secretary will prioritize under-resourced institutions, such as selecting the applications from institutions with the lowest endowment per FTE. If a third tiebreaker is required, the Secretary will select the applicant with the highest score in the quality of project services selection criterion. Finally, if a fourth tiebreaker is required, the Secretary will select the applicant with the highest score in the quality of project design selection criterion.

3. Risk Assessment and Specific Conditions: Consistent with 2 CFR 200.206, before awarding grants under this competition, the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, appendix XII, require you to report certain integrity information to FAPIIS semiannually. Please review the requirements in 2 CFR part 200, appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with—

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case, the Secretary establishes a data collection period.

5. Performance Measures: For the purposes of Department reporting under 34 CFR 75.110, the Department will use the following performance measures to evaluate the success of the Hawkins Program grants:

(a) The number and percentage of teacher candidates, served by the funded program, who complete the teacher preparation program, disaggregated by race.

(b) The number and percentage of teacher candidates, served by the funded program, disaggregated by race, who become fully certified and are placed as teachers of record in high-need schools or hard-to-staff schools.

(c) The number and percentage of bilingual and/or multilingual teacher candidates, served by the funded program, who complete the teacher preparation program.

(d) The number and percentage of bilingual and/or multilingual teacher candidates, served by the funded program, who become fully certified and are placed as teachers of record in high-need schools or hard-to-staff schools.

(e) The number and percentage of program completers who were employed for the first time as teachers of record in the preceding year by the partner high-need schools or hard-to-staff schools and were retained for the current school year.

(f) The number and percentage of program completers who were employed by the partner high-need school or hard-to-staff school for three consecutive years after initial employment.

(g) The number and percentage of program completers who are employed by the partner high-need school or hard-to-staff school teaching in mathematics, science, bilingual education, special education, career and technical education, or any other field of expertise where the State education agency determines that there is a shortage of qualified teachers.

VII. Other Information

Accessible Format: On request to the program contact person listed under FOR FURTHER INFORMATION CONTACT, individuals with disabilities can obtain this document and a copy of the application package in an accessible format.

The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Nasser Paydar,
Assistant Secretary for Postsecondary Education.

[FR Doc. 2024-07132 Filed 4-3-24; 8:45 am]

BILLING CODE 4000-01-P